ENVIRONMENTAL PROTECTION AGENCY

40 CFR Part 300

[EPA-R04-SFUND-2007-0720; FRL-8458-8]

National Oil and Hazardous Substance Pollution Contingency Plan National Priorities List

AGENCY: Environmental Protection Agency.

ACTION: Notice of intent to delete the Standard Auto Bumper Superfund Site from the National Priorities List.

SUMMARY: The Environmental Protection Agency (EPA) Region 4 is issuing a notice of intent to delete the Standard Auto Bumper Superfund Site (Site) located in Hialeah, Florida, from the National Priorities List (NPL) and requests public comments on this notice of intent. The NPL, promulgated pursuant to section 105 of the Comprehensive Environmental Response, Compensation, and Liability Act (CERCLA) of 1980, as amended, is found at Appendix B of 40 CFR part 300 which is the National Oil and Hazardous Substances Pollution Contingency Plan (NCP). The EPA and the State of Florida, through the Florida Department of Environmental Protection (FDEP), have determined that all appropriate response actions under CERCLA, other than operation and maintenance and five-year reviews, have been completed. However, this deletion does not preclude future actions under Superfund.

In the “Rules and Regulations” section of today's Federal Register, we are publishing a direct final notice of deletion of the Standard Auto Bumper Superfund Site without prior notice of intent to delete because we view this as a noncontroversial revision and anticipate no adverse comment. We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the Rules section of this Federal Register.

DATES: Comments concerning this Site must be received by September 26, 2007.

ADDRESSES: Submit your comments, identified by EPA-R04-SFUND-2007-0720, by one of the following methods:

1. www.regulations.gov: Follow the on-line instructions for submitting comments.

2. E-mail: taylor.michael@epa.gov.

3. Fax: (404) 562-8896.

4. Mail: EPA-R04-SFUND-2007-0720, Superfund Division, U.S. Environmental Protection Agency, Region 4, 61 Forsyth Street, SW., Atlanta, Georgia 30303-8960.

5. Hand Delivery or Courier: Michael Taylor, Remedial Project Manager, Superfund Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

FOR FURTHER INFORMATION CONTACT: Michael Taylor, Remedial Project Manager, Superfund Division, U.S. Environmental Protection Agency, Region 4, 61 Forsyth Street, SW., Atlanta, Georgia 30303-8960, Phone: (404) 562-8762, Electronic Mail: taylor.michael@epa.gov.

SUPPLEMENTARY INFORMATION: For additional information, see the Direct Final Notice of Deletion which is located in the Rules section of this Federal Register.

Information Repositories: Repositories have been established to provide detailed information concerning this decision at the following addresses:

1. John F. Kennedy Memorial Library, Hialeah Public Library, 190 West 49th Street, Hialeah, Florida 33012, Hours: Monday through Thursday-10 a.m. until 8:45 p.m., and Friday-Saturday-9:30 a.m. until 4:45 p.m.

2. U.S. EPA Record Center, Attn: Ms. Debbie Jourdan, Atlanta Federal Center, 61 Forsyth Street, SW., Atlanta, Georgia 30303-8960, Phone: (404) 562-8862, Hours 8 a.m. to 4 p.m., Monday through Friday by appointment only.

Dated: August 13, 2007.
J.I. Palmer, Jr.,
Regional Administrator, Region 4.

[FR Doc. E7-16684 Filed 8-24-07; 8:45 am]

BILLING CODE 6560-50-P